DEPARTMENT OF THE INTERIOR

Fish and Wildlife Service

[FWS-HQ-FAC-2015-N005; FXFR13360900000-FF09F14000-156]

National Control and Management Plan for Members of the Snakehead Family (Channidae)

AGENCY: Fish and Wildlife Service, Interior.

ACTION: Notice of availability; request for comments.

SUMMARY: The U.S. Fish and Wildlife Service (USFWS), announces the availability of a draft document for public review: National Control and Management Plan for Members of the Snakehead Family (Channidae) (Plan). The goal of the Plan is to use the best available science and management practices to prevent the introduction of snakehead into new areas, contain and where possible eradicate newly established and localized populations, and minimize impacts in areas where they are established and eradication is not feasible.

DATES: To ensure consideration, please send your written comments by April 16, 2015.

ADDRESSES: Obtaining Documents: The draft document may be obtained online, by mail, or by email:

• http://anstaskforce.gov/documents.php;

• U.S. mail: U.S. Fish and Wildlife Service, Branch of Aquatic Invasive Species, U.S. Fish and Wildlife Service, 5275 Leesburg Pike, MS: FAC, Falls Church, VA 22041; or

• Email: Laura_Norcutt@fws.gov.

Submitting Comments: Please submit your comments in writing by one of the following methods:

• U.S. mail: U.S. Fish and Wildlife Service, Branch of Aquatic Invasive Species, 5275 Leesburg Pike, MS: FAC, Falls Church, VA 22041; or

• Email: Laura_Norcutt@fws.gov.

FOR FURTHER INFORMATION CONTACT: Laura Norcutt, 703-358-2398.

SUPPLEMENTARY INFORMATION:

Background

Through provisions in title 50, part 16 of the Code of Federal Regulations (CFR), the USFWS regulates the importation and interstate transport of certain aquatic species that have been determined to be injurious (50 CFR 16.13). The Nonindigenous Aquatic Nuisance Prevention and Control Act of 1990 (16 U.S.C. 4701 et seq.) established the Aquatic Nuisance Species Task Force (ANSTF), an intergovernmental organization co-chaired by the USFWS and the National Oceanic and Atmospheric Administration and dedicated to prevent and control the spread of aquatic nuisance species.

The 108th Congress requested that the USFWS address concerns about the introduction of northern snakehead. In response, the USFWS assembled a Northern Snakehead Working Group (NSWG) to provide input on the development of a Northern Snakehead Control and Management Plan. This Plan to guide the USFWS and other interested parties in managing and controlling existing populations, and preventing the spread and introduction of this species into additional areas of the United States, was completed in 2005 with the input of the NSWG and other northern snakehead experts. In 2011, the Mississippi River Basin Panel on Aquatic Nuisance Species requested that the ANSTF update the 2005 Plan to include additional snakehead species that are, or have the potential to become, invasive in U.S. waters.

Development of the Draft Plan

In 2011 the ANSTF established a committee to revise the Northern Snakehead Control and Management Plan to include all snakehead species to correspond with the Lacey Act. The committee was made up of 29 committee members representing Federal and State agencies, nongovernmental organizations, and university experts. The ANSTF was provided an opportunity to review the draft document and comment in November 2013 and March 2014. ANSTF comments were addressed in this new version of the draft Plan.

The goal of the revised Plan is to use the best available science and management practices to prevent the future introduction of snakehead into new areas; contain and, where possible, eradicate newly established and localized populations; and minimize impacts in areas where they are established and eradication is not feasible. The following is a list of objectives set forth by this plan:

1. Prevent importation into the United States by refining regulations and improving compliance and enforcement.

2. Contain the expansion of snakehead within the United States by assessing the risk of establishment and developing an effective snakehead surveillance program that can detect new introductions at a stage where populations are able to be eradicated.

3. Develop long-term adaptive management options to mitigate potential impacts of Snakehead in U.S. waters where eradication is not possible.

4. Conduct research to better understand the pathways of spread and potential impacts of snakehead on aquatic ecosystems, as well as to develop more effective surveillance, control, and eradication methods.

5. Develop effective outreach materials to help prevent new introductions of snakehead within the United States and control the anthropogenic spread of established populations.

6. Review and assess progress of the Plan.

Request for Public Comments

The draft Plan is available on the ANSTF Web site (see ADDRESSES) for public review and comment.

We request review and comment on our Plan from local, State, and Federal agencies and the public. All comments received by the date specified in DATES will be considered in preparing final documents. Methods of submitting comments are in ADDRESSES.

Public Availability of Comments

Before including your address, phone number, email address, or other personal identifying information in your comment, you should be aware that your entire comment—including your personal identifying information—may be made publicly available at any time. You can ask the USFWS in your comment to withhold your personal identifying information from public review; however, we cannot guarantee that we will be able to do so.

Responses to individual commenters will not be provided, but we will provide the comments we receive and a summary of how we addressed substantive comments in a document on the ANSTF Web site listed above in ADDRESSES. Individuals without internet access may request an appointment to inspect the comments during normal business hours at our office (see ADDRESSES).

Dated: February 5, 2015.
David Hoskins,
Co-Chair, Aquatic Nuisance Species Task Force, Assistant Director for Fish and Aquatic Conservation.

[FR Doc. 2015-06024 Filed 3-16-15; 8:45 am]

BILLING CODE 4310-55-P